DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security (BIS), Department of Commerce.

Title: Statement by Ultimate Consignee and Purchaser.

OMB Control Number: 0694-0021.

Form Number(s): BIS-711.

Type of Request: Regular submission.

Burden Hours: 76.

Number of Respondents: 286.

Average Hours per Response: 16 minutes.

Needs and Uses: This collection is required by section 748.11 of the Export Administration Regulations (EAR). In order to effectively control commodities, BIS must have sufficient information regarding the end-use and end-user of the U.S. origin commodities to be exported. The use of Form BIS-711 or letter puts the importer on notice of the special nature of the goods proposed for export and conveys a commitment against illegal disposition. The information will assist the licensing officer in making the proper decision on whether to approve or reject the application for the license.

Affected Public: Businesses and other for-profit organizations.

Frequency: On occasion.

Respondent's Obligation: Required to obtain benefits.

OMB Desk Officer: Jasmeet Seehra, (202) 395-3123.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to Jasmeet Seehra, OMB Desk Officer, Jasmeet_K._Seehra@omb.eop.gov, or fax number (202) 395-5167.

Dated: April 7, 2009.
Gwellnar Banks,
Management Analyst, Office of the Chief Information Officer.

[FR Doc. E9-8220 Filed 4-9-09; 8:45 am]

BILLING CODE 3510-33-P